DEPARTMENT OF THE INTERIOR

Office of the Secretary

Invasive Species Advisory Committee

AGENCY: Office of the Secretary, Interior.

ACTION: Notice of public meetings of the Invasive Species Advisory Committee.

SUMMARY: Pursuant to the provisions of the Federal Advisory Committee Act, notice is hereby given of meetings of the Invasive Species Advisory Committee. The purpose of the Advisory Committee is to provide advice to the National Invasive Species Council, as authorized by Executive Order 13112, on a broad array of issues related to preventing the introduction of invasive species and providing for their control and minimizing the economic, ecological, and human health impacts that invasive species cause. The Council is Co-chaired by the Secretary of the Interior, the Secretary of Agriculture, and the Secretary of Commerce. The duty of the Council is to provide national leadership regarding invasive species issues. The purpose of a meeting on April 27-28, 2006 is to convene the full Advisory Committee and to discuss implementation of action items outlined in the National Invasive Species Management Plan, which was finalized on January 18, 2001.

DATES: Meeting of Invasive Species Advisory Committee: Thursday, April 27, 2006, through Friday, April 28, 2006; beginning at approximately 8 a.m., and ending at approximately 5 p.m. each day.

ADDRESSES: Radisson Old Town Alexandria Hotel, 901 North Fairfax Street, Alexandria, VA 22314. Meeting will be held all three days in the Presidential Ballroom.

FOR FURTHER INFORMATION CONTACT: Kelsey Brantley, National Invasive Species Council Program Analyst; Phone: (202) 513-7243; Fax: (202) 371-1751.

Dated: February 24, 2006.
Lori C. Williams,
Executive Director, National Invasive Species Council.

[FR Doc. E6-3004 Filed 3-1-06; 8:45 am]

BILLING CODE 4310-RK-P